DEPARTMENT OF THE INTERIOR

National Park Service

Notice of Inventory Completion for Native American Human Remains and Associated Funerary Objects in the Possession of Grand Valley State University, Allendale, MI

AGENCY: National Park Service, Interior.

ACTION: Notice.

Notice is hereby given in accordance with provisions of the Native American Graves Protection and Repatriation Act (NAGPRA), 43 CFR 10.9, of the completion of an inventory of human remains and associated funerary objects in the possession of Grand Valley State University, Allendale, MI.

This notice is published as part of the National Park Service's administrative responsibilities under NAGPRA, 43 CFR 10.2 (c). The determinations within this notice are the sole responsibility of the museum that has control of these Native American human remains and associated funerary objects. The National Park Service is not responsible for the determinations within this notice.

A detailed assessment of the human remains was made by Grand Valley State University professional staff in consultation with representatives of the Little River Band of Ottawa Indians of Michigan.

In 1971-1972, human remains representing a minimum of 17 individuals were removed from individual burials during excavations at the Battle Point site (20OT4), Crockery Township, Ottawa County, MI, by Grand Valley State University staff Dr. Richard Flanders. Human remains representing a minimum of an additional nine individuals were removed from disturbed contexts in the same area of the site. No known individuals were identified. The 8,413 associated funerary objects include iron buckets; clay pipes; glass beads; and silver ornaments including gorgets, tinklers, and brooches. The catalog numbers for these associated funerary objects are 2016, 2025, 2026, 2028-2030, 2056-2063, and 2079-2082.

Between 1980 and 1990, human remains representing a minimum of nine individuals were removed from the Battle Point site by Grand Valley State University staff. These remains were exposed through erosion of the Battle Point site by the Grand River. No known individuals were identified. The 60 associated funerary objects include silver ornaments, strike-a-lights, bucket fragments, a knife blade, pieces of wood, and fabric. The catalog number for these associated funerary objects is 9010.

Between 1990 and 1998, human remains representing a minimum of 15 individuals were removed from the Battle Point site by Grand Valley State University staff; Ottawa County, MI, Sheriff's Department staff; and the Office of the State Archaeologist of Michigan. The remains were exposed as a result of erosion of the site by the Grand River. The 149 associated funerary objects are a metal trade ax, wood, nails, and a bucket. The catalog numbers for these associated funerary objects are 20OT04/1992-1993, 20OT04/7.16.96, 20OT04/3.27.97, 20OT04/12.97.1-8, and 20OT04/9.24.98.

Unassociated funerary objects from the Battle Point site in the possession of the Grand Valley State University are reported in a separate Notice of Intent to Repatriate.

The Battle Point site is a multi-component site consisting of habitation dating to circa A. D. 200-1300, and a cemetery dating to the mid-19th century. Associated funerary objects date the burials to circa 1800-1840. Excavation notes, spatial analyses, and other studies demonstrate that the cemetery intrudes into habitation deposits dating to pre-European contact and that do not include a mortuary component.

Historic documentation indicates that a Native American cemetery associated with the Little River Band of Ottawa Indians of Michigan was located at the Battle Point site in the mid-19th century. An abstract of land title dated to 1846 identifies an association between members of the Little River Band of Ottawa Indians of Michigan and the plot on which the cemetery is located. The cemetery is specifically mentioned in a 1864 land transaction as associated with the Little River Band of Ottawa Indians of Michigan. On the basis of historical and oral historical information, the Battle Point site cemetery is determined to be culturally affiliated with the Little River Band of Ottawa Indians of Michigan.

Based on the above-mentioned information, officials of the Grand Valley State University have determined that, pursuant to 43 CFR 10.2 (d)(1), the human remains listed above represent the physical remains of 41 individuals of Native American ancestry. Officials of the Grand Valley State University also have determined that, pursuant to 43 CFR 10.2 (d)(2), the 8,622 objects listed above are reasonably believed to have been placed with or near individual human remains at the time of death or later as part of the death rite or ceremony. Lastly, officials of the Grand Valley State University have determined that, pursuant to 43 CFR 10.2 (e), there is a relationship of shared group identity that can be reasonably traced between these Native American human remains and associated funerary objects and the Little River Band of Ottawa Indians of Michigan.

This notice has been sent to officials of the Grand Traverse Band of Ottawa and Chippewa Indians of Michigan, the Little Traverse Bay Bands of Odawa Indians of Michigan, the Little River Band of Ottawa Indians of Michigan, and the Grand River Bands of Ottawa Indians (a non-Federally recognized group). Representatives of any other Indian tribe that believes itself to be culturally affiliated with these human remains and associated funerary objects should contact Janet G. Brashler, Professor and Curator of Anthropology, Grand Valley State University, Allendale, MI 49401, telephone (616) 854-3694, before June 4, 2001. Repatriation of the human remains and associated funerary objects to the Little River Band of Ottawa Indians may begin after that date if no additional claimants come forward.

Dated: April 16, 2001.
John Robbins,
Assistant Director, Cultural Resources Stewardship and Partnerships.

[FR Doc. 01-11144 Filed 5-2-01; 8:45 am]

BILLING CODE 4310-70-F